DEPARTMENT OF TRANSPORTATION

Federal Motor Carrier Safety Administration

49 CFR Part 373

RIN 2126-AC06

General Technical, Organizational, Conforming, and Correcting Amendments to the Federal Motor Carrier Safety Regulations; Correction

AGENCY: Federal Motor Carrier Safety Administration (FMCSA), DOT.

ACTION: Final rule; correction.

SUMMARY: FMCSA corrects the technical corrections final rule published on May 17, 2018, that amended FMCSA regulations to make minor changes to correct inadvertent errors and omissions, remove or update obsolete references, ensure conformity with Office of the Federal Register style guidelines, and improve the clarity and consistency of certain regulatory provisions. This document corrects an amendatory instruction.

DATES: Effective June 18, 2018.

FOR FURTHER INFORMATION CONTACT: Mr. David Miller, Federal Motor Carrier Safety Administration, Regulatory Development Division, 1200 New Jersey Avenue SE, Washington, DC 20590-0001, by telephone at (202) 366-5370 or via email at david.miller@dot.gov. Office hours are from 9 a.m. to 5 p.m. e.t., Monday through Friday, except Federal holidays.

SUPPLEMENTARY INFORMATION: In FR Doc. 2018-10437, appearing on page 22873 in the Federal Register of Thursday, May 17, 2018, the following correction is made:

§ 373.103 [Corrected]

1. On page 22873, in the third column, in amendment 10a., the instruction “Withdraw the amendments to § 373.103 published April 16, 2018, at 83 FR 16224” is withdrawn.

Issued under the authority delegated in 49 CFR 1.87 on: May 30, 2018.
Larry W. Minor,
Associate Administrator for Policy.

[FR Doc. 2018-12032 Filed 6-6-18; 8:45 am]

BILLING CODE 4910-EX-P